FEDERAL COMMUNICATIONS COMMISSION

47 CFR Parts 1, 73 and 76

[DA 11-1432]

Broadcast Applications and Proceedings; Fairness Doctrine and Digital Broadcast Television Redistribution Control; Fairness Doctrine, Personal Attacks, Political Editorials and Complaints Regarding Cable Programming Service Rates

AGENCY: Federal Communications Commission.

ACTION: Final rule.

SUMMARY: In this document, the Commission makes several nonsubstantive, editorial revisions to parts 1, 73 and 76 of the Commission's rules. The Commission removes rules that are without current legal effect and are obsolete. The deleted rules include the fairness doctrine, broadcast flag rules and cable programming services complaint rules.

DATES: Effective September 9, 2011.

ADDRESSES: Federal Communications Commission, 445 12th Street, SW., Room TW-A325, Washington, DC 20554. For additional information, see the SUPPLEMENTARY INFORMATION section of this document.

FOR FURTHER INFORMATION CONTACT: For additional information on this proceeding, contact Katie Costello, Katie.Costello@fcc.gov of the Media Bureau, Policy Division, (202) 418-2233.

SUPPLEMENTARY INFORMATION: This is a summary of the Order, DA 11-1432, adopted on August 24, 2011, and released on August 24, 2011 under delegated authority, with erratum released August 25, 2011. The full text of this document is available for public inspection and copying during regular business hours in the FCC Reference Center, Federal Communications Commission, 445 12th Street, SW., CY-A257, Washington, DC 20554. This document will also be available via ECFS (http://www.fcc.gov/cgb/ecfs/). (Documents will be available electronically in ASCII, Word 97, and/or Adobe Acrobat.) The complete text may be purchased from the Commission's copy contractor, 445 12th Street, SW., Room CY-B402, Washington, DC 20554. To request this document in accessible formats (computer diskettes, large print, audio recording, and Braille), send an e-mail to fcc504@fcc.gov or call the Commission's Consumer and Governmental Affairs Bureau at (202) 418-0530 (voice), (202) 418-0432 (TTY).

Regulatory Information

This final rule is being issued without prior notice and opportunity to comment pursuant to authority under the Administrative Procedures Act, 5 U.S.C. 553(b)(3)(B). The rule amendments adopted in this Order are nonsubstantive, editorial revisions of the Commission's rules pursuant to § 0.231 (b) of the Commission's rules, and merely delete obsolete rule provisions. The Commission finds good cause to conclude that notice and comment procedures are unnecessary and would not serve any useful purpose.

Paperwork Reduction Act Analysis

This document contains no new or modified information collection requirements. The rules contained herein have been analyzed with respect to the Paperwork Reduction Act of 1995, Public Law 104-13, 44 U.S.C. 3501, et seq., and found to contain no new or modified form, information collection, and/or recordkeeping, labeling, disclosure, or record retention requirements, and will not increase or decrease burden hours imposed on the public. In addition, therefore, this Order does not contain any new or modified “information collection burden for small business concerns with fewer than 25 employees,” pursuant to the Small Business Paperwork Relief Act of 2002, Public Law 107-198, 44 U.S.C. 3506(c)(4). The Commission will send a copy of the Order in a report to Congress and the Government Accountability Office pursuant to the Congressional Review Act.

Regulatory Flexibility Act

Because this Order is being adopted without notice and comment, the Regulatory Flexibility Act, 5 U.S.C. 601, et seq., does not apply.

Summary of the Order

1. In this Order, we make several nonsubstantive, editorial revisions to parts 1, 73 and 76 of the Commission's rules. We make these revisions to delete certain rule provisions that are without current legal effect and obsolete.

2. Specifically, this Order removes Broadcast Applications and Proceedings rules part 1, subpart D of the Commission's rules, §§ 1.502 through 1.615 of the Commission's rules. This Order removes broadcast and cable rules, §§ 73.1910 and 76.209 of the Commission's rules, which reference the Commission's so-called “Fairness Doctrine.” This Order removes cable personal attack and political editorial rules, §§ 76.1612 and 76.1613 of the Commission's rules.

3. This Order removes the Commission's “Broadcast Flag” rules, part 73, subparts L and M, of the Commission's rules, §§ 73.8000 and 73.9000 through 73.9009 of the Commission's rules. This Order deletes the Commission's cable programming services (CPST) complaint process rules, §§ 76.950, 76.951, 76.953, 76.954, 76.955, 76.956, 76.957, 76.960, 76.961, 76.1402, 76.1605 and 76.1606 of the Commission's rules.

List of Subjects

47 CFR Part 1

Administrative practice and procedure, Radio.

47 CFR Part 73

Political candidates, Radio, Television.

47 CFR Part 76

Administrative practice and procedure, Cable television, Political candidates.

Federal Communications Commission.
Thomas Horan
Chief of Staff, Media Bureau.

For the reasons discussed in the preamble, the Federal Communications Commission amends 47 CFR parts 1, 73 and 76 as follows:

PART 1—PRACTICE AND PROCEDURE

1. The authority citation for part 1 continues to read as follows:

Authority: 15 U.S.C. 79, et seq.; 47 U.S.C. 151, 154(i), 154(j), 155, 157, 225, 227, 303(r), and 309.

Subpart D—[Removed and Reserved]

2. Remove and reserve Subpart D.

PART 73—RADIO BROADCAST SERVICES

3. The authority citation for part 73 continues to read as follows:

Authority: 47 U.S.C. 154, 303, 334, 336 and 339.

§ 73.1910 [Removed]

4. Remove § 73.1910.

Subparts L and M—[Removed]

5. Remove Subparts L and M.

PART 76—MULTICHANNEL VIDEO AND CABLE TELEVISION SERVICE

6. The authority citation for part 76 continues to read as follows:

Authority: 47 U.S.C. 151, 152, 153, 154, 301, 302, 302a, 303, 303a, 307, 308, 309, 312, 315, 317, 325, 339, 340, 341, 503, 521, 522, 531, 532, 534, 535, 536, 537, 543, 544, 544a, 545, 548, 549, 552, 554, 556, 558, 560, 561, 571, 572 and 573.

§ 76.209 [Removed]

7. Remove § 76.209.

§§ 76.950 and 76.951 [Removed]

8. Remove §§ 76.950 and 76.951.

§§ 76.953 through 76.957 [Removed]

9. Remove §§ 76.953 through 76.957.

§§ 76.960 and 76.961 [Removed]

10. Remove §§ 76.960 and 76.961.

§ 76.985 [Amended]

11. In § 76.985, remove forms entitled “INSTRUCTIONS FOR FCC 329,” “FCC329”.

§ 76.1402 [Removed]

12. Remove § 76.1402.

§§ 76.1605 and 76.1606 [Removed]

13. Remove §§ 76.1605 and 76.1606.

§§ 76.1612 and 76.1613 [Removed]

14. Remove §§ 76.1612 and 76.1613.

[FR Doc. 2011-23010 Filed 9-8-11; 8:45 am]

BILLING CODE 6712-01-P